DEPARTMENT OF THE TREASURY

Office of Thrift Supervision

Submission for OMB Review; Comment Request

August 16, 2000.

The Office of Thrift Supervision (OTS) has submitted the following public information collection requirement(s) to OMB for review and clearance under the Paperwork Reduction Act of 1995, Public Law 104-13. Interested persons may obtain copies of the submission(s) by calling the OTS Clearance Officer listed. Send comments regarding this information collection to the OMB reviewer listed and to the OTS Clearance Officer, Office of Thrift Supervision, 1700 G Street, NW., Washington, DC 20552.

DATES: Submit written comments on or before September 20, 2000.

OMB Number: 1550-0072.

Form Number: OTS forms 1522 (MHC-1) and 1523 (MHC-2).

Type of Review: Regular.

Title: Mutual Holding Company.

Description: The information collections apply to mutual holding companies and to their subsidiaries. The collections are necessary to (1) fulfill statutory requirements; and (2) facilitate review of transactions presenting risks.

Respondents: Savings and Loan Associations and Savings Banks.

Estimated Number of Responses: 75 responses.

Estimated Burden Hours Per Response: 58 hours.

Frequency of Response: Once per submission.

Estimated Total Reporting Burden: 4,318 hours.

Clearance Officer: Ralph E. Maxwell, (202) 906-7740, Office of Thrift Supervision, 1700 Street, NW., Washington, DC 20552.

OMB Reviewer: Alexander Hunt, (202) 395-7860, Office of Management and Budget, Room 10202, New Executive Office Building, Washington, DC 20503.

John E. Werner,
Director, Information & Management Services.

[FR Doc. 00-21133 Filed 8-18-00; 8:45 am]

BILLING CODE 6720-01-P